FEDERAL RESERVE SYSTEM

Formations of, Acquisitions by, and Mergers of Bank Holding Companies

Correction

The notice appearing in the Federal Register of July 23, 2020, FR Doc. 2020-15973, on page 44536, in the third column, is withdrawn.

Board of Governors of the Federal Reserve System, July 23, 2020.
Yao-Chin Chao,
Assistant Secretary of the Board.

[FR Doc. 2020-16344 Filed 7-27-20; 8:45 am]

BILLING CODE P